SOCIAL SECURITY ADMINISTRATION

Agency Information Collection Activities: Proposed Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB),

Office of Management and Budget,

Attn: Desk Officer for SSA,

Fax: 202-395-6974,

Email address: OIRA_Submission@omb.eop.gov.

(SSA),

Social Security Administration, DCRDP,

Attn: Reports Clearance Officer,

107 Altmeyer Building,

6401 Security Blvd.,

Baltimore, MD 21235,

Fax: 410-965-6400,

Email address: OPLM.RCO@ssa.gov.

The information collections below are pending at SSA. SSA will submit them to OMB within 60 days from the date of this notice. To be sure we consider your comments, we must receive them no later than July 9, 2012. Individuals can obtain copies of the collection instruments by calling the SSA Reports Clearance Officer at 410-965-8783 or by writing to the above email address.

1. Statement of Self-Employment Income—20 CFR 404.101, 404.110, 404.1096(a)-(d)—0960-0046. To qualify for insured status and thus collect Social Security benefits, self-employed individuals must demonstrate they earned the minimum amount of self-employment income (SEI) in a current year. SSA uses Form SSA-766, Statement of Self-Employment Income, to collect the information we need to determine if the individual will have at least the minimum amount of SEI needed for one or more quarters of coverage in the current year. Based on the information we obtain, we may credit additional quarters of coverage to give the individual insured status thus expediting benefit payments. Respondents are self-employed individuals who may be eligible for Social Security benefits.

Type of Request: Revision of an OMB-approved information collection.

Collection instrument | Number of respondents | Frequency of response | Average burden per response (minutes) | Estimated total annual burden (hours)
SSA-766 | 2,500 | 1 | 5 | 208

2. Certification by Religious Group—20 CFR 404.1075—0960-0093. SSA is responsible for determining whether religious groups meet the qualifications exempting certain members and sects from payment of Self-Employment Contribution Act taxes under the Internal Revenue Code, section 1402(g). SSA sends Form SSA-1458, Certification by Religious Group, to a group's authorized spokesperson to complete and verify organizational members meet or continue to meet the criteria for exemption. The respondents are spokespersons for religious groups or sects.

Type of Request: Revision of an OMB-approved information collection.

Collection instrument | Number of respondents | Frequency of response | Average burden per response (minutes) | Estimated total annual burden (hours)
SSA-1458 | 180 | 1 | 15 | 45

3. Claim for Amounts Due in the Case of a Deceased Beneficiary—20 CFR 404.503(b)—0960-0101. SSA requests applicants complete Form SSA-1724 when there is insufficient information in the file to identify the person(s) entitled to the underpayment, or the person's address. SSA collects the information when a surviving widow(er) is not already entitled to a monthly benefit on the same earnings record, or is not filing for a lump-sum death payment as a former spouse. SSA uses the information Form SSA-1724 provides to ensure proper payment of an underpayment due a deceased beneficiary. The respondents are applicants for underpayments owed to deceased beneficiaries.

Type of Request: Revision of an OMB-approved information collection.

Collection instrument | Number of respondents | Frequency of response | Average burden per response (minutes) | Estimated total annual burden (hours)
SSA-1724 | 250,000 | 1 | 10 | 41,667

4. Certificate of Election for Reduced Spouse's Benefits—20 CFR 404.421—0960-0398. Reduced benefits are not payable to an already entitled spouse, at least age 62 but under full retirement age, who no longer has a child in their care unless the spouse elects to receive reduced benefits. If spouses decide to elect reduced benefits, they must complete Form SSA-25. SSA uses the information to pay qualified spouses who elect to receive reduced benefits. Respondents are entitled spouses seeking reduced benefits.

Type of Request: Revision of an OMB-approved information collection.

Collection instrument | Number of respondents | Frequency of response | Average burden per response (minutes) | Estimated total annual burden (hours)
SSA-25 | 30,000 | 1 | 2 | 1,000

5. Surveys in Accordance with E.O. 12862 for the Social Security Administration—0960-0526. Under the auspices of Executive Order 12862, Setting Customer Service Standards, SSA conducts multiple customer satisfaction surveys each year. These voluntary customer satisfaction assessments include paper, Internet, and telephone surveys; mailed questionnaires; and customer comment cards. The purpose of these questionnaires is to assess customer satisfaction with the timeliness, appropriateness, access, and overall quality of existing SSA services and proposed modifications or new versions of services. The respondents are recipients of SSA services (including most members of the public), professionals, and individuals who work on behalf of SSA beneficiaries.

Type of Request: Revision of an OMB-approved information collection.

| Number of respondents (burden for all activities within that year) | Frequency of response | Range of response times (minutes) | Burden (burden for all activities within that year; reported in hours)
Year 1:
(September 2012-August 2013) | 4,481,566 | 1 | 3-90 | 290,741
Year 2:
(September 2013-August 2014) | 1,559,566 | 1 | 3-90 | 144,991
Year 3:
(September 2014-September 2015) | 1,484,566 | 1 | 3-90 | 141,741
Totals | 7,525,698 |  |  | 577,473

6. Request for Business Entity Taxpayer Information—0960-0731. Law firms or other business entities must complete Form SSA-1694, Request for Business Taxpayer Information, if they wish to serve as appointed representatives and receive direct payment of fees from SSA. SSA uses the information to issue a Form 1099-MISC. SSA also uses the information to allow business entities to designate individuals to serve as entity administrators authorized to perform certain administrative duties on their behalf, such as providing bank account information, maintaining entity information, and updating individual affiliations. Respondents are law firms or other business entities which have partners or employees that are attorneys or other qualified individuals who represent claimants before SSA.

Type of Request: Revision of an OMB-approved information collection.

Collection instrument | Number of respondents | Frequency of response | Average burden per response (minutes) | Estimated total annual burden (hours)
SSA-1694 | 2,000 | 1 | 10 | 334

Dated: May 3, 2012.
Naomi R. Sipple,
Reports Clearance Analyst, Office of Regulations and Reports Clearance, Social Security Administration.

[FR Doc. 2012-11070 Filed 5-8-12; 8:45 am]

BILLING CODE 4191-02-P